DEPARTMENT OF AGRICULTURE

Forest Service

Southeast Galena Restoration, Malheur National Forest, Grant County, OR

AGENCY: Forest Service, USDA.

ACTION: Cancellation notice.

SUMMARY: July 15, 1999, a Notice of Intent (NOI) to prepare an environmental impact statement for the Southeast Galena Restoration on the Long Creek Ranger District of the Malheur National Forest, was published in the Federal Register (64 FR 38176). Since the project proposed action is being redesigned, the date of any further environmental analysis is unknown. The 1909 NOI is hereby rescinded.

FOR FURTHER INFORMATION CONTACT: Jan Fauntleroy, Project Leader, PO Box 909, John Day, Oregon 97845, phone 541-3446.

Dated: May 20, 2002.
Bonnie J. Wood,
Forest Supervisor.

[FR Doc. 02-13638 Filed 5-30-02; 8:45 am]

BILLING CODE 3410-11-M